ENVIRONMENTAL PROTECTION AGENCY

[FRL-8494-9]

Science Advisory Board Staff Office; Notification of a Meeting of the Science Advisory Board

AGENCY: Environmental Protection Agency (EPA).

ACTION: Notice.

SUMMARY: The EPA Science Advisory Board (SAB) Staff Office announces a public face-to-face meeting of the chartered SAB to: continue its discussions of the strategic research directions for the U.S. Environmental Protection Agency; complete its discussions of science use in disaster response programs; complete its quality review of the draft SAB report Advisory on Hypoxia in the Gulf of Mexico; and to continue its planning activities for future SAB meetings.

DATES: The meeting dates are Thursday, December 6, 2007, from 8:30 a.m. to 5 p.m. through Friday, December 7, 2007, from 8:30 a.m., no later than 12 p.m. (Eastern Time).

ADDRESSES: The meeting will be held in the SAB Conference Center, located at 1025 F Street, NW., Room 3705, Washington, DC 20004.

FOR FURTHER INFORMATION CONTACT: Members of the public who wish to obtain additional information about this meeting may contact Mr. Thomas O. Miller, Designated Federal Officer (DFO), by mail at the address given below; by telephone at (202) 343-9982; by fax at (202) 233-0643; or by e-mail at: miller.tom@epa.gov. The SAB mailing address is: U.S. EPA, Science Advisory Board (1400F), 1200 Pennsylvania Avenue, NW., Washington, DC 20460. The messenger address is: U.S. EPA, Science Advisory Board (1400F), Room 3600, 1025 F Street, NW., Washington, DC 20004, Phone (202) 343-9999. General information about the SAB, as well as any updates concerning the meeting announced in this notice, may be found on the SAB Web site at: http://www.epa.gov/sab.

SUPPLEMENTARY INFORMATION: The SAB was established by 42 U.S.C. 4365 to provide independent scientific and technical advice, consultation, and recommendations to the EPA Administrator on the technical basis for Agency positions and regulations. The SAB is a Federal advisory committee chartered under the Federal Advisory Committee Act (FACA), as amended, 5 U.S.C., App. The SAB will comply with the provisions of FACA and all appropriate SAB Staff Office procedural policies.

Background: (a) SAB Quality Review of the Draft SAB Report Advisory on Hypoxia in the Gulf of Mexico. The Chartered Science Advisory Board will conduct a second quality review of the draft report of its Hypoxia Advisory Panel (HAP) which was begun at the SAB meeting on October 3, 2007 (see 72 FR 50105-50107; August 30, 2007). The draft report will be placed on the SAB Web site prior to the meeting. Specific times for this activity will be provided in the meeting agenda that will be placed on the SAB Web site prior to the meeting (see http://www.epa.gov/sab/). Background on the Panel and this review is available on the SAB Web site at: http://www.epa.gov/sab/panels/hypoxia_adv_panel.htm.

(b) EPA Strategic Research Directions: The Agency asked the Science Advisory Board for advice on the strategic directions for its research program for the next five to fifteen years. This activity complements the annual SAB review of EPA's research budget, and permits a more critical evaluation of research programs than is possible during the research budget review. The SAB will continue to discuss EPA's research program directions which were initiated at its October 3-5, 2007 meeting (see 72 FR 50105-50107; August 30, 2007). Specific information time for this discussion will be provided in the meeting agenda that will be available on the SAB Web site prior to the meeting (see http://www.epa.gov/sab/).

(c) Science in Emergency Response: The SAB is exploring the use of science in preparing for and responding to environmental disasters. The SAB previously discussed this topic at its meetings on December 12-14, 2006 (see 71 FR 67566), June 19-20, 2007 (see 72 FR 27308) and October 3-5, 2007 (see 72 FR 50105-50107; August 30, 2007). The SAB is currently drafting advisory comments to the Administrator as a result of these discussions. Final discussions of those comments will be held during the SAB meeting on December 6-7, 2007. Specific times will be provided in the meeting agenda that will be placed on the SAB Web site prior to the meeting (see http://www.epa.gov/sab/). Additional information is available on the SAB Web site for the December 2007 meeting at: http://www.epa.gov/sab/agendas.htm.

(d) SAB meeting at: http://www.epa.gov/sab/07agendas/sab_06_19-20_07_agenda.pdf, and for the October 3-5, 2007 meeting at: http://www.epa.gov/sab/mtgcal.htm

Availability of Meeting Materials: Materials in support of this meeting will be placed on the SAB Web site at http://www.epa.gov/sab in advance of this meeting.

Procedures for Providing Public Input: Interested members of the public may submit relevant written or oral information for the SAB to consider during the advisory process.

Oral Statements: In general, individuals or groups requesting an oral presentation at a public meeting will be limited to five minutes per speaker, with no more than one hour for all speakers. Interested parties should contact Mr. Thomas Miller, DFO, at the contact information provided above, by December 3, 2007, to be placed on the public speaker list for the December 6-7, 2007 meeting. A telephone conference line will be available for those portions of the meeting during which the SAB is conducting quality reviews of draft committee reports. Information on the call in procedures and numbers can be obtained by calling the EPA SAB Staff Office ad (202) 343-9999. Written Statements: Written statements should be received in the SAB Staff Office by December 3, 2007, so that the information may be made available to the SAB for their consideration prior to this meeting. Written statements should be supplied, at the contact information specified above, in the following formats: one hard copy with original signature, and one electronic copy via e-mail to: miller.tom@epa.gov (acceptable file format: Adobe Acrobat PDF, WordPerfect, MS Word, MS PowerPoint, or Rich Text files in IBM-PC/Windows 98/2000/XP format).

Meeting Accommodations: For information on access or services for individuals with disabilities, please contact Mr. Thomas Miller at (202) 343-9982, or via e-mail at miller.tom@epa.gov. To request accommodation of a disability, please contact Mr. Miller, preferably at least 10 days prior to the meeting, to give EPA as much time as possible to process your request.

Dated: November 7, 2007.
Vanessa T. Vu,
Director, EPA Science Advisory Board Staff Office.

[FR Doc. E7-22371 Filed 11-14-07; 8:45 am]

BILLING CODE 6560-50-P